ENVIRONMENTAL PROTECTION AGENCY

[ER-FRL-6642-1]

Environmental Impact Statements; Notice of Availability

Responsible Agency: Office of Federal Activities, General Information (202) 564-7167 or http://www.epa.gov/compliance/nepa./

Weekly receipt of Environmental Impact Statements

Filed July 07, 2003 Through July 11, 2003

Pursuant to 40 CFR 1506.9.

EIS No. 030317, Final EIS, AFS, MI, Interior Wetlands Project, Timber Harvest, White Pine Trees Pruning, Growth System Adjustment, Wildlife Openings Creation and Maintenance and Transportation System Improvements, Hiawatha National Forest, Eastside Administrative Unit, Chippewa County, MI, Wait Period Ends: August 18, 2003, Contact: Martha Sjogren (906) 643-7900. Ext. 133. This document is available on the Internet at: (http://www.fs.fed.us/r9/hiawatha).

EIS No. 030318, Draft Supplement, AFS, NM, Agua/Caballos Timber Sale, Harvesting Timber and Managing Existing Vegetation, To Review New Information, Carson National Forest, EL Rito Ranger District, Taos County, NM, Comment Period Ends: September 2, 2003, Contact: Kurt Winchester (505) 581-4554. This document is available on the Internet at: http://www.fs.fed.us/r3/carson/htm1_main/list_planning.htm1.

EIS No. 030319, Final EIS, AFS, ID, Upper Bear Timber Sale Project, Fuel Reduction, Forest Vegetation and Roads Management, Payette National Forest, Council Ranger District, Adams County, ID, Wait Period End: August 18, 2003, Contact: Mary Farnsworth (208) 253-0100.

EIS No. 030320, Draft EIS, AFS, UT, North Rich Cattle Allotment, Proposes to Authorize Grazing, Implementation, Logan District, Wasatch-Cache National Forest, Cache and Rich Counties, UT, Comment Period Ends: September 2, 2003, Contact: Evelyn Sibbernsen (435) 755-3621.

EIS No. 030321, Draft EIS, AFS, NM, Bluewater Ecosystem Management Project, Proposes to Initiate Vegetation Treatments to Restore Ponderosa Pine and Pinon-Juniper Stands to a Desired Condition, Cibola National Forest, Mt. Taylor Ranger District, McKinley and Cibola Counties, NM, Comment Period Ends: September 2, 2003, Contact: Chuck Hagerdon (505) 287-8833.

EIS No. 030322, Draft EIS, NRC, SC, Generic—License Renewal of Nuclear Plants, Virgil C. Summer Nuclear Station, Supplement 15, Fairfield County, SC, Comment Period Ends: September 2, 2003, Contact: Gregory F. Suber (301) 415-1124.

EIS No. 030323, Draft EIS, IBR, CA, Programmatic EIS—Environmental Water Account Project, To Provide Water Management Strategy that Protects the At-Risk Native Delta-Dependent Fish Species and Improve Water Supply, CALFED Bay-Delta Program's, Endangered Species Act Section 7 and U.S. Corps Section 10 Permits, CA, Comment Period Ends: September 9, 2003, Contact: Ms. Sammie Cervantes (916) 978-5104.

EIS No. 030324, Final Supplement, COE, FL, Upper St. Johns River Basin and Related Areas, Central and Southern Florida Flood Control Project, Proposed Modifications to Project Features North of the Fellsmere Grade, To Preserve and Enhance Floodplain and Aquatic Habitats, Brevard County, FL, Wait Period Ends: August 18, 2003, Contact: Esteban Jimenez (904) 232-3442.

EIS No. 030325, Final EIS, AFS, CO, Missionary Ridge Burned Area Timber Salvage Project, Timber Harvesting, San Juan National Forest north of Durango, LaPlata County, CO, Wait Period Ends: August 18, 2003, Contact: David Dallison (970) 385-1253. This document is available on the Internet at: http://www.fs.fed.us/r2/sanjuan/reading_room/planning and_nepa/nepa1.htm.

EIS No. 030326, Final EIS, USN, NC, SC, VA, Introduction of F/A 18 E/F (Super Hornet) Aircraft, Replacing the F-14 (TOMCAT) and F/A-18 C/D (Hornet) Aircraft, Homebasing and Operation, Possible Homebase sites include Naval Air Station (NAS) Oceana, VA; Marine Corps Air Station (MCAS) Beaufort, SC and MCAS Cherry Point, Wait Period Ends: August 18, 2003, Contact: Fred Pierson (757) 322-4935.

EIS No. 030327, Draft EIS, FRC, CT, Housatonic River Hydroelectric Project, Application to Relicense Existing Licenses for Housatonic Project No. 2576-022 and the Falls Village Project No. 2597-019, Housatonic River Basin, Fairfield, New Haven and Litchfield Counties, CT, Comment Period Ends: September 2, 2003, Contact: Jack Duckworth (202) 502-6392. This document is available on the Internet at: http://www.ferc.gov.

EIS No. 030328, Draft EIS, NPS, MD, VA, PA, DC Chesapeake Bay Special Resource Study (SRS), To Conserve and Restore Chesapeake Bay, New Unit of the National Park System, MD, VA, PA, and DC. Comment Period Ends: September 17, 2003, Contact: Jonathan Doherty (410) 267-5725. This document is available on the Internet at: http://www.chesapeakestudy.org.

EIS No. 030329, Final EIS, AFS, ID, Middle Little Salmon Vegetation Management Project, Timber Stands Current Condition Improvements, Payette National Forest, New Meadows Ranger District, Adam County, ID, Wait Period Ends: August 18, 2003, Contact: Sylvia Clark (208) 347-0300. This document is available on the Internet at: http://www.fs.fed.us/r4/payette/main.htm1.

Amended Notices

EIS No. 030233, Draft EIS, FHW, PA, Woodhaven Road Project, To Relieve Congestion on Byberry Road between the Roosevelt Boulevard and Huntingdon Pike, Philadelphia, Bucks and Montgomery Counties, PA, Comment Period Ends: August 11, 2003, Contact: James A Cheatham (717) 221-3461. Revision of FR Notice Published on 5/23/2003: CEQ Comment Period Ending 7/11/2003 has been Extended to 8/11/2003.

EIS No. 030289, Final Supplement, COE, TX, OK, Red River Chloride Control Project, Authorization to Reduce the Natural Occurring Levels of Chloride in the Wichita River Only Portion, North, Middle and South Forks, Wichita River and Red River, Implementation, Tulsa District, Wichita County, TX, Wait Period Ends: July 28, 2003, Contact: David L. Combs (918) 669-7660. Revision of FR Notice Published on 6/27/2003: Correction to the Title.

Dated: July 15, 2003.
Joseph C. Montgomery,
Director, NEPA Compliance Division, Office of Federal Activities

[FR Doc. 03-18289 Filed 7-17-03; 8:45 am]

BILLING CODE 6560-50-P